DEPARTMENT OF ENERGY

Federal Energy Regulatory Commission

[Docket Nos. OA08-62-000; ER08-1113-000]

California Independent System Operator Corporation; Notice of FERC Staff Attendance

November 14, 2008.

The Federal Energy Regulatory Commission (Commission) hereby gives notice that on the following dates members of its staff will attend stakeholder meetings of the California Independent System Operator (CAISO). Unless otherwise noted, these meetings will be held at the CAISO, 151 Blue Ravine Road, Folsom, CA or by teleconference. The agenda and other documents for the meetings are available on the CAISO's Web site, http://www.caiso.com.

November 19, 2008: Integrated Balancing Authority Area compliance filing.

November 20, 2008: CAISO 2009 Transmission Plan.

Sponsored by the CAISO, these meetings are open to all market participants, and staff's attendance is part of the Commission's ongoing outreach efforts. The meetings may discuss matters at issue in the above captioned dockets.

For further information, contact Saeed Farrokhpay at saeed.farrokhpay@ferc.gov; (916) 294-0233 or Maury Kruth at maury.kruth@ferc.gov; (916) 294-0275.

Kimberly D. Bose,
Secretary.

[FR Doc. E8-27564 Filed 11-19-08; 8:45 am]

BILLING CODE 6717-01-P